DEPARTMENT OF JUSTICE

Notice of Lodging of Consent Decree Pursuant to the Clean Water Act

In accordance with Departmental policy, including 28 CFR 50.7, notice is hereby given that a proposed Consent Decree in United States of America and State of Louisiana v. City of Baton Rouge and Parish of East Baton Rouge, Civil Action No. 01-978-B-M-3, was lodged on November 13, 2001, with the United States District Court for the Middle District of Louisiana.

The proposed Consent Decree settles an action brought under Clean Water Act (“CWA”) Section 301, 33 U.S.C. 1311, for civil penalties and injunctive relief for violations related to the publically owned treatment works owned and operated by the City/Parish. The Consent Decree resolves all claims in the Complaint and provides for injunctive relief; a civil penalty of $729,500; a $1.125 million supplemental environmental project that will connect certain neighborhoods to the sewage treatment system; and payment of $216,000 in stipulated penalties which accrued under a prior Consent Decree. The injunctive relief will require the City/Parish to implement specified projects including a 13-15 year project to improve its sewage collection system, a Sanitary Sewer Overflow Response Plan to project the public health by responding to overflows, and an extensive preventive maintenance program.

The Department of Justice will receive, for a period of thirty (30) days from the date of this publication, comments relating to the proposed Consent Decree. Comments should be addressed to the Assistant Attorney General for the Environmental and Natural Resources Division, United States Department of Justice, Washington, D.C. 20530, and should refer to United States and Louisiana v. Baton Rouge. No. 01-978-B-M-3 (M.D. La.) DOJ Ref. #90-5-1-1-2769/1.

The proposed Consent Decree may be examined at the office of the United States Attorney, Middle District of Louisiana, 777 Florida St., Baton Rouge, LA 70801 and the office of the U.S. Environmental Protection Agency, Region 6, 1445 Ross Avenue, Dallas, Texas 75202. A copy of the proposed Consent Decree may be obtained by mail from the Consent Decree Library, P.O. Box 7611, Washington, D.C. 20044-7611. When requesting a copy please refer to United States and Louisiana v. Baton Rouge. No. 01-978-B-M-3 (M.D. La.), DOJ Ref. # 90-5-1-1-2769/1 and enclose a check in the amount of $67.75 (25 cents per page reproduction costs), payable to the “Consent Decree Library.”

Thomas A. Mariani, Jr.,
Assistant Chief, Environmental Enforcement Section, Environment and Natural Resources Division.

[FR Doc. 01-31789 Filed 12-26-01; 8:45 am]

BILLING CODE 4410-15-M